DEPARTMENT OF THE INTERIOR

Office of the Secretary

43 CFR Part 11

RIN 1090-AA97

Natural Resource Damages for Hazardous Substances

AGENCY: Office of the Secretary, Interior.

ACTION: Final rule; correction.

SUMMARY: The Department of the Interior is correcting a final rule that appeared in the Federal Register on October 2, 2008 (73 FR 57259). The document issued a final rule that will regulate restoring, replacing, or acquiring the equivalent of public natural resources that are injured or destroyed as a result of releases of hazardous substances

DATES: Effective Date: November 3, 2008.

FOR FURTHER INFORMATION CONTACT: Frank DeLuise, 1849 C Street, NW., Washington, DC 20240. Telephone: 202-208-4143.

SUPPLEMENTARY INFORMATION: In FR Doc. E8-23225 appearing on page 57259 in the Federal Register of Thursday, October 2, 2008, the following correction is made:

1. On page 57266, in the second column, amendment 6, the instruction “In § 11.82, revise paragraphs (a), (b)(1)(iii), and (c) to read as follows:” is corrected to read, “In § 11.82, revise paragraphs (a), (b)(1)(iii), and (c)(1) to read as follows:”

Dated: October 30, 2008.
James E. Cason,
Associate Deputy Secretary.

[FR Doc. E8-26248 Filed 10-31-08; 8:45 am]

BILLING CODE 4310-RG-P